DEPARTMENT OF THE INTERIOR

National Park Service

[NPS-WASO-NAGPRA-NPS0037352; PPWOCRADN0-PCU00RP14.R50000]

Notice of Inventory Completion: Nassau County Department of Parks, Recreation and Museums—Garvies Point Museum and Preserve, Glen Cove, NY

AGENCY: National Park Service, Interior.

ACTION: Notice.

SUMMARY: In accordance with the Native American Graves Protection and Repatriation Act (NAGPRA), the Nassau County Department of Parks, Recreation and Museums—Garvies Point Museum and Preserve has completed an inventory of human remains and associated funerary objects and has determined that there is a cultural affiliation between the human remains and associated funerary objects and Indian Tribes or Native Hawaiian organizations in this notice. The human remains and associated funerary objects were removed from Suffolk County, NY.

DATES: Repatriation of the human remains and associated funerary objects in this notice may occur on or after March 11, 2024.

ADDRESSES: Veronica Natale, Museum Director—Garvies Point Museum and Preserve, 50 Barry Drive, Glen Cove, NY 11542, telephone (516) 571-8010, email vnatale@nassaucountyny.gov and Darcy Belyea, Commissioner of Parks, Nassau County Department of Parks, Recreation and Museums, email dbelyea@nassaucountyny.gov.

SUPPLEMENTARY INFORMATION: This notice is published as part of the National Park Service's administrative responsibilities under NAGPRA. The determinations in this notice are the sole responsibility of the Nassau County Department of Parks, Recreation and Museums. The National Park Service is not responsible for the determinations in this notice. Additional information on the determinations in this notice, including the results of consultation, can be found in the inventory or related records held by the Nassau County Department of Parks, Recreation and Museums—Garvies Point Museum and Preserve.

Description

In 1966, Nassau County Museum (NCM) Archaeologists recovered the partial human remains of, at minimum, two male adults found in a single grave during development of an area for housing. They were removed from NCM Site #1, Catalog number 1-1, Stony Hollow-Water's Edge, Centerport, Suffolk County, NY. Six associated funerary objects; Levanna points were found in association with grave; four have been located. Archeological evidence dates the human remains to the Late Woodland period.

Sometime between 1966-1969, a fragmentary human skull, representing at minimum, one individual was found by others at an unknown location and removed from Strong's Neck, Suffolk County, NY. In 1969, the cranial fragments were donated to the museum by Ken Robinson, an archeologist involved at this site, Catalog number 63-x-113. No associated funerary objects are present. Time period is unknown.

Human remains representing, at minimum, 24 individuals were removed from Suffolk County, NY. (Catalog number 132-x-1) Provenance: NCM #32, Soak Hides, Three Mile Harbor, NY. No associated funerary objects are present. Archeological evidence dates the site and human remains to the Woodland period.

Human remains representing, at minimum, one individual were removed from Suffolk County, NY. (Catalog number 136-79) Excavated by Suffolk County Police, March 1971. Medical Examiner #0706. Site was located on private property of Mr. Paul Windels Jr. and he subsequently donated the human remains to the museum in 1972. Provenance: NCM #136, Stony Brook Harbor site, Nissequogue, NY. 11 associated funerary objects were found which include eight quartz projectile point fragments, a bead, deer scapula fragment, and fire-cracked hammerstone. Site has late Archaic through Late Woodland time.

Human remains representing, at minimum, one individual were removed from Suffolk County, NY. (Catalog number 151-x) The frontal bone of a skull and two small skull fragments. Recovered by a bayman with clam tongs. Provenance: NCM Site #151, Plax site, Westhampton Beach, NY. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, kinship, oral tradition, and expert opinion.

Determinations

Pursuant to NAGPRA and its implementing regulations, and after consultation with the appropriate Indian Tribes and Native Hawaiian organizations, the Nassau County Department of Parks, Recreation and Museums—Garvies Point Museum and Preserve has determined that:

• The human remains described in this notice represent the physical remains of 29 individuals of Native American ancestry.

• The 15 objects described in this notice are reasonably believed to have been placed with or near individual human remains at the time of death or later as part of the death rite or ceremony.

• There is a relationship of shared group identity that can be reasonably traced between the human remains and associated funerary objects described in this notice and the Shinnecock Indian Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 11, 2024. If competing requests for repatriation are received, the Nassau County Department of Parks, Recreation and Museums—Garvies Point Museum and Preserve must determine the most appropriate requestor prior to repatriation. Requests for joint repatriation of the human remains and associated funerary objects are considered a single request and not competing requests. The Nassau County Department of Parks, Recreation and Museums—Garvies Point Museum and Preserve is responsible for sending a copy of this notice to the Indian Tribe identified in this notice.

This notice was submitted on or after the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 1, 2024.
Melanie O'Brien,
Manager, National NAGPRA Program.

[FR Doc. 2024-02559 Filed 2-7-24; 8:45 am]

BILLING CODE 4312-52-P